DEPARTMENT OF HOMELAND SECURITY

[Docket No. DHS-2020-0043]

Request for Information: Evidence-Building Activities

AGENCY: Department of Homeland Security.

ACTION: Request for Information; reopening and extension of comment period.

SUMMARY: The Foundations for Evidence-Based Policymaking Act of 2018 requires federal agencies to develop evidence-building plans to identify and address questions relevant to Agency strategy, programs, policies, regulations, management, and operations. On November 9, 2020, the Department of Homeland Security (DHS) published a request for information (RFI) soliciting input from the public regarding potential priority questions that can guide evidence-building activities by. DHS is reopening and extending the comment period for the RFI.

DATES: Please send comments on or before March 31, 2021. Comments received after that date will be considered to the extent practicable.

ADDRESSES: You may submit comments via the Federal eRulemaking Portal at https://www.regulations.gov. Follow the instructions for submitting comments via Docket No. DHS-2020-0043. All comments received, including any personal information provided, may be posted without change to https://www.regulations.gov.

FOR FURTHER INFORMATION CONTACT: If you have questions about this notice, please contact Michael Stough, Director, Program Analysis and Evaluation, (202) 447-0518, michael.stough@hq.dhs.gov.

SUPPLEMENTARY INFORMATION:

Evidence Act and November 2020 RFI

The Foundations for Evidence-Based Policymaking Act of 2018 (Evidence Act, Pub. L. 115-435) requires each federal agency to develop, as part of the agency strategic plan issued every four years,¹ a systematic evidence-building plan (or “learning agenda”) to identify and address policy questions relevant to the strategies, programs, policies, and regulations of the agency.² The plan must contain (1) a list of policy-relevant questions for which the agency intends to develop evidence to support policymaking; (2) a list of data the agency intends to collect, use, or acquire to facilitate the use of evidence in policymaking; (3) a list of methods and analytical approaches that may be used to develop evidence to support policymaking; (4) a list of any challenges to developing evidence to support policymaking, including any statutory or other restrictions to accessing relevant data; (5) a description of the steps the agency will take to accomplish items (1) and (2) above; and (6) any other information as required by guidance issued by the Director of the Office of Management and Budget (OMB).³ In developing the evidence-building plan, the agency must consult with stakeholders, including the public, agencies, State and local governments, and representatives of non-governmental researchers.⁴

¹ The latest such DHS strategic plan covers the years 2020-2024, and preceded implementation of the Evidence Act. See DHS, The DHS Strategic Plan: Fiscal Years 2020-2024, available at https://www.dhs.gov/sites/default/files/publications/19_0702_plcy_dhs-strategic-plan-fy20-24.pdf (last visited Jan. 28, 2020).

² See 5 U.S.C. 306, 312.

³ See 5 U.S.C. 312(a).

⁴ See, e.g., OMB Memorandum M-19-23, Phase 1 Implementation of the Foundations for Evidence Based Policymaking Act of 2018: Learning Agenda, Personnel, and Planning Guidance at 16-17 (July 10, 2019), available at https://www.whitehouse.gov/wp-content/uploads/2019/07/M-19-23.pdf (last visited Jan. 28, 2021) (“Agencies should gather input in the manner that best meets their needs, most effectively engages their specific stakeholders, and leverages existing activities and/or requirements whenever possible, in accordance with applicable law and policy. Potential models for doing so include: Requests for Information published in the Federal Register, listening sessions with groups of stakeholders, Technical Working Groups, and one-on-one consultations. OMB recognizes that agencies may use different approaches at different points in the process, and that it may not be feasible to engage all stakeholders for all updates to the learning agenda . . . .”).

On November 9, 2020, DHS published an RFI soliciting input from the public to inform the development of the Department's evidence-building plan. 85 FR 71353. On January 27, 2021, President Biden issued a Memorandum on Restoring Trust in Government Through Scientific Integrity and Evidence-Based Policymaking,⁵ which reinforces the importance of the evidence-building plan. DHS is now reopening and extending the comment period for the RFI to allow additional public engagement.

⁵ See Memorandum on Restoring Trust in Government Through Scientific Integrity and Evidence-Based Policymaking (Jan. 27, 2021), available at https://www.whitehouse.gov/briefing-room/presidential-actions/2021/01/27/memorandum-on-resotring-trust-in-government-through-scientific-integrity-and-evidence-based-policymaking/ (last visited Jan. 28, 2021).

DHS Background

With the passage of the Homeland Security Act by Congress in November 2002, the Department of Homeland Security (DHS) became a Cabinet-level agency to unite the Nation's approach to homeland security. DHS combined functions of 22 different agencies with broad responsibilities that collectively prevent attacks, mitigate threats, respond to national emergencies, preserve economic security, and preserve legacy agency functions. DHS is committed to evaluating the effectiveness and efficiency of its programs, policies, and regulations. DHS will use its evidence-building plan to coordinate and communicate how evaluation, statistics, research, and analysis will be used to help the Department achieve its mission.

Request for Information

Through this RFI, DHS is soliciting suggestions from a broad array of stakeholders across public and private sectors that may be familiar with or interested in the work of DHS and wish to volunteer suggestions for studies that could help DHS improve the effectiveness and efficiency of DHS strategy, programs, policies and regulations. DHS invites suggestions in many forms—such as questions to be answered, hypotheses to be tested, or problems to be studied—and focused on any area of Department's work, including strategy, policy, programs, regulations, management, and operations. Responses to this RFI will inform the Department's ongoing development of a set of questions that will guide direction and evidence-building activities, such as foundational research, policy analysis, performance measurement, and program evaluation.

This RFI is for information and planning purposes only and should not be construed as a solicitation or as creating or resulting in any obligation on the part of DHS.

Dated: February 5, 2021.
Michael Stough,
Evaluation Officer, U.S. Department of Homeland Security.

[FR Doc. 2021-02735 Filed 2-9-21; 8:45 am]

BILLING CODE 9110-9B-P